DEPARTMENT OF AGRICULTURE

Natural Resources Conservation Service

[Docket No. NRCS-2014-0013]

Notice of Proposed Changes to Section I of the Iowa, Minnesota, North Dakota, and South Dakota State Technical Guides

AGENCY: Natural Resources Conservation Service (NRCS), USDA.

ACTION: Notice of availability of proposed changes in the NRCS State specific Field Office Technical Guides for review and comment.

SUMMARY: Notice is hereby given of the intention by the NRCS State Conservationists for Iowa, Minnesota, North Dakota, and South Dakota to issue revisions to Section I of their State Technical Guide pertaining to the State Offsite Methods used in completing wetland determinations. In each of the listed States, NRCS is proposing to issue its State Offsite Methods which will replace existing State wetland mapping conventions. The State Offsite Methods will be used as part of the technical documents and procedures to conduct wetland determinations on agriculture land as part of the Food Security Act of 1985 (as amended). Section 343 of the Federal Agriculture Improvement and Reform Act of 1996 requires NRCS to make available for public review and comment all proposed revisions to standards and procedures used to carry out Highly Erodible Land and wetland provisions of the law.

DATES: Effective Date: This is effective November 5, 2014.

Comment Date: Submit comments on or before February 3, 2015. Final versions of these new or revised State Offsite Methods will be adopted after the close of the 90-day period and after consideration of all comments.

ADDRESSES: Comments should be submitted for each specific State, identified by Docket Number NRCS-2014-0013, using any of the following methods:

• Federal eRulemaking Portal: http://www.regulations.gov. Follow the instructions for submitting comments.

• Mail or hand-delivery: Submit state specific comments to the appropriate State contact. The contact information for each State is shown below.

• NRCS will post all comments on http://www.regulations.gov. In general, personal information provided with comments will be posted. If your comment includes your address, telephone number, email, or other personal identifying information, your comments, including personal information, may be available to the public. You may ask in your comment that your personal identifying information be withheld from public view, but this cannot be guaranteed.

FOR FURTHER INFORMATION CONTACT: NRCS State Conservationist specific to your response:

• Iowa, Jay Mar, State Conservationist, NRCS, 210 Walnut Street, Room 693, Des Moines, Iowa 50309-2180, telephone: (515) 284-4769, email: Jay.mar@ia.usda.gov; Iowa Web site: http://www.nrcs.usda.gov/wps/portal/nrcs/site/ia/home/

• Minnesota, Don Baloun, State Conservationist, NRCS, Suite 600, 375 Jackson Street, St. Paul, Minnesota 55101-1854, telephone: (651) 602-7854, email: Don.baloun@mn.usda.gov; Minnesota Web site: http://www.nrcs.usda.gov/wps/portal/nrcs/site/mn/home/

• North Dakota, Mary Podoll, State Conservationist, NRCS, 220 East Rosser Avenue, Bismarck, North Dakota 58502-1458, telephone: 701-530-2003, email: mary.podoll@nd.usda.gov, North Dakota Web site http://www.nrcs.usda.gov/wps/portal/nrcs/site/nd/home/

• South Dakota, Jeff Zimprich, State Conservationist, NRCS, Room 203, 200 4th Street SW., Huron, South Dakota 57350, telephone: (605) 352-1200, email: Jeff.zimprich@sd.usda.gov, South Dakota Web site: http://www.nrcs.usda.gov/wps/portal/nrcs/site/sd/home/

Electronic copies of the proposed revised offsite methods are available through http://www.regulations.gov, by accessing Docket No. NRCS-2014-0013. Alternatively, copies can be downloaded or printed from the State specific Web site. Requests for paper versions or inquiries may be directed to the specific State Conservationist.

Signed this 31st day of October, 2014, in Washington, DC.
Jason A. Weller,
Chief, Natural Resources Conservation Service.

[FR Doc. 2014-26294 Filed 11-4-14; 8:45 am]

BILLING CODE 3410-16-P